DEPARTMENT OF HOUSING AND URBAN DEVELOPMENT

[Docket No. FR-7039-N-05]

60-Day Notice of Proposed Information Collection: Section 3 Sample Utilization Plans

AGENCY: Office of Field Policy and Management, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 22, 2021.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Section 3 Sample Utilization Plans.

OMB Approval Number: 2501-New.

Type of Request: New.

Form Number: HUD Forms 4737, 4737A, 4737B, 4737C, 4737D.

Description of the need for the information and proposed use: This collection is to document the Section 3 labor hours for Section 3 workers and Section 3 Business concerns for employment and economic opportunities generated by public housing financial assistance and section 3 projects as well as the HUD funding/grants generating the opportunities. This collection is reflective of the changes to the Section 3 regulation, published in the Federal Register 9/29/2020. Grantees of HUD financial assistance can use this as a sample tool to document their Section 3 labor hours. This collection is not a requirement but is to be used as a sample if grantees do not already have a process in place to document Section 3 labor hours.

Respondents (i.e., affected public): HUD recipients of public housing financial assistance, certain HUD recipients of housing and community development financial assistance, certain HUD grantees, public housing residents and other eligible Section 3 workers.

Estimated Number of Respondents:

Information collection | Number of respondents | Frequency of response | Responses per annum | Burden hour per response | Total burden hours | Hourly per response | Annual cost
HUD Form 4737 Utilization Tracker | 2,500.00 | 1.00 | 2,500.00 | 5.00 | 12,500.00 | $42.01 | $525,125.00
HUD Form 4737A Utilization Tracker | 2,500.00 | 1.00 | 2,500.00 | 5.00 | 12,500.00 | 42.01 | 525,125.00
HUD Form 4737B PHA Utilization Plan | 2,500.00 | 1.00 | 2,500.00 | 1.50 | 3,750.00 | 49.83 | 189,862.50
HUD Form 4737C HCD Utilization Plan | 2,500.00 | 1.00 | 2,500.00 | 1.50 | 3,750.00 | 34.18 | 139,425.00
HUD Form 4737D HUD Funding Tracker | 2,500.00 | 1.00 | 2,500.00 | 3.00 | 7,500.00 | 42.01 | 315,075.00
Total | 12,500.00 |  |  | 16.00 | 40,000.00 |  | 1,694,612.50

• Utilization Tracker and Funding Tracker hourly response rate has been determined by a mean of the PHA and HCD hourly response rates.

• PHA utilization hourly response is set at the median hourly rate of a General Operation Manager, per OES, https://www.bls.gov/oes/.

• The HCD hourly response rate has been determined by the median hourly rate of a compliance manager, per OES, https://www.bls.gov/oes/.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. chapter 35.

Krista Mills,
Director, Office of Field Policy and Management.

[FR Doc. 2021-17981 Filed 8-20-21; 8:45 am]

BILLING CODE 4210-67-P